DEPARTMENT OF JUSTICE

Bureau of Justice Statistics

[OMB Number 1121-0346]

Agency Information Collection Activities: Proposed eCollection eComments Requested; Reinstatement, With Change, of a Previously Approved Collection: 2018 Census of State and Local Law Enforcement Agencies (CSLLEA)

AGENCY: Bureau of Justice Statistics, Department of Justice.

ACTION: 30-Day Notice.

SUMMARY: The Department of Justice (DOJ), Office of Justice Programs, Bureau of Justice Statistics, will be submitting the following information collection request to the Office of Management and Budget (OMB) for review and approval in accordance with the Paperwork Reduction Act of 1995. The proposed information collection was previously published in the Federal Register on Thursday, November 16, 2017, allowing a 60-day comment period. Following publication of the 60-day notice, the Bureau of Justice Statistics received three requests for the survey instrument and one communication containing general comments on the importance of the collection.

DATES: Comments are encouraged and will be accepted for 30 days until March 19, 2018.

FOR FURTHER INFORMATION CONTACT: If you have additional comments especially on the estimated public burden or associated response time, suggestions, or need a copy of the proposed information collection instrument with instructions or additional information, please contact Shelley S. Hyland, Statistician, Law Enforcement Statistics Unit, Bureau of Justice Statistics, 810 Seventh Street NW, Washington, DC 20531 (email: Shelley.Hyland@usdoj.gov; phone: 202-616-1706). Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: Reinstatement, with change, of a previously approved collection for which approval has expired.

(2) The Title of the Form/Collection: 2018 Census of State and Local Law Enforcement Agencies (CSLLEA).

(3) The agency form number, if any, and the applicable component of the Department sponsoring the collection: The form number is CJ-38. The applicable component within the Department of Justice that is sponsoring this collection is the Bureau of Justice Statistics, Office of Justice Programs.

(4) Affected public who will be asked or required to respond, as well as a brief abstract: Respondents will include all publicly-funded state, county, local and tribal law enforcement agencies in the United States that employ the equivalent of at least one full-time sworn officer with general arrest powers. Both general purpose agencies (i.e., any public agency with sworn officers whose patrol and enforcement responsibilities are primarily delimited by the boundaries of a municipal, county, or state government) and special purpose agencies (e.g., tribal, campus law enforcement, transportation, natural resources, etc.) meeting the above description will be asked to respond.

Abstract: BJS has conducted the CSLLEA regularly since 1986. The 2018 CSLLEA will be the seventh administration. Historically, the CSLLEA generates an enumeration of all publically funded state, county, local and tribal law enforcement agencies operating in the United States. The CSLLEA provides complete personnel counts and an overview of the functions performed for approximately 20,000 law enforcement agencies operating nationally.

The 2018 CSLLEA collection involves two phases. In the first phase, BJS will cognitively test the revised instrument with 48 agencies based on agency type (i.e., local and county police, sheriff's office, or special purpose) and size (i.e., 100 or more full-time equivalent sworn officers or less than 100 full-time equivalent sworn officers). A maximum of 8 agencies of each type and size will participate in testing. BJS has reduced the number of items from the 2014 administration but has included additional items on limited sworn officers. Additionally, BJS will continue to refine the universe frame by verifying agency in-service status, contact information and de-duplicating agencies.

Pending positive results from the first phase, in the second phase, BJS will conduct the main data collection. The 2018 CSLLEA is designed to collect general information on state, county, local and tribal law enforcement agencies. The survey asks about the level of government that operates the agency; total operating budget; full-time and part-time personnel counts for fully sworn officers, limited sworn officers and non-sworn employees; gender and primary job responsibility of full-time sworn officers; and the functions the agency performs on a regular or primary basis. Upon completion, the 2018 CSLLEA will serve as the sampling frame for future law enforcement surveys administered by BJS.

(5) An estimate of the total number of respondents and the amount of time estimated for an average respondent to respond: For the cognitive testing, BJS is planning 48 agencies with an estimated total respondent burden of 90 minutes. For the full data collection, BJS estimates a maximum of 20,000 state, county, local and tribal law enforcement agencies with a respondent burden of about 45 minutes per agency, including the follow-up time.

(6) An estimate of the total public burden (in hours) associated with the collection: The estimated total respondent burden for the cognitive testing is 72 hours. The maximum respondent burden for the full data collection is approximately 15,000 burden hours. Therefore, total burden for both phases is approximately 15,072 burden hours.

If additional information is required contact: Melody Braswell, Department Clearance Officer, United States Department of Justice, Justice Management Division, Policy and Planning Staff, Two Constitution Square, 145 N Street NE, 3E.405A, Washington, DC 20530.

Dated: February 13, 2018.
Melody Braswell,
Department Clearance Officer for PRA, U.S. Department of Justice.

[FR Doc. 2018-03216 Filed 2-15-18; 8:45 am]

BILLING CODE 4410-18-P